DEPARTMENT OF TRANSPORTATION

Federal Aviation Administration

14 CFR Part 71

[Docket No. FAA-2004-19334; Airspace Docket No. 04-ACE-63]

Modification of Class E Airspace; Sedalia, MO

AGENCY: Federal Aviation Administration (FAA), DOT.

ACTION: Direct final rule; request for comments; correction.

SUMMARY: This action corrects a direct final rule; request for comments that was published in the Federal Register on Friday, October 29, 2004, (69 FR 63056) (FR Doc. 04-24259). It corrects errors in the legal description of the Class E airspace area extending upward from 700 feet above the surface at Sedelia, MO.

DATES: The direct final rule is effective on 0901 UTC, January 20, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register document 04-24259, published on Friday, October 29, 2004 (69 FR 63056), modified the Class E airspace area extending upward from 700 feet above the surface at Sedalia, MO. The modification expanded the airspace area for diverse departures and modified or deleted extensions to the airspace area to provide controlled airspace of appropriate dimensions for aircraft executing instrument approach procedures to Sedalia Memorial Airport. The Sedalia Memorial Airport airport reference point (ARP) is used in the airspace legal description. However, publication of a revised Sedalia Memorial Airport ARP in the National Flight Data Digest on January 6, 2005, requires a further revision to the Sedalia, MO Class E airspace area.

Accordingly, pursuant to the authority delegated to me, the legal description of the Class E airspace area extending upward from 700 feet above the surface at Sedalia, MO, as published in the Federal Register on Friday, October 29, 2004, (69 FR 63056) (FR Doc. 04-24259) is corrected as follows:

§ 71.1 [Corrected]

On page 63057, Column 3, fifth paragraph, third line, change “(Lat. 38°42′25″; N., long. 93°10′34″ W.)” to read: “(Lat. 38°42′27″; N., long. 93°10′33″ W.)”

Issued in Kansas City, MO, on January 11, 2005.
Donna R. McCord,
Acting Area Director, Western Flight Services Operations.

[FR Doc. 05-1420 Filed 1-25-05; 8:45 am]

BILLING CODE 4910-13-M